DEPARTMENT OF DEFENSE

Department of the Army, U.S. Army Corps of Engineers

Cancellation of Notice of Availability of a Draft Detailed Project Report With Integrated Environmental Assessment and Draft Finding of No Significant Impact for the Pier 70 Central Basin Continuing Authorities Program Section 107 Navigation Improvement Project at the Port of San Francisco, San Francisco, CA

AGENCY: Department of the Army, U.S. Army Corps of Engineers, DoD.

ACTION: Notice; cancellation.

SUMMARY: The United States Army Corps of Engineers (USACE) San Francisco District is canceling the notice of availability issued on February 10, 2017 (82 FR 10346) for the Draft Detailed Project Report with Integrated Environmental Assessment (DPR/EA) and draft Finding of No Significant Impact (FONSI) for the proposed Pier 70 Central Basin Continuing Authorities Program (CAP) Section 107 Navigation Improvement Project in San Francisco, CA. The USACE is postponing the public review and comment period.

FOR FURTHER INFORMATION CONTACT: Questions concerning this notice should be addressed to Roxanne Grillo, U.S. Army Corps of Engineers, San Francisco District, 1455 Market Street, San Francisco, CA 94103-1398. Telephone: (415) 503-6859. Email: CESPN-ET-PA@usace.army.mil.

SUPPLEMENTARY INFORMATION: None.

Brenda S. Bowen,
Army Federal Register Liaison Officer.

[FR Doc. 2017-03321 Filed 2-17-17; 8:45 am]

BILLING CODE 3720-58-P